DEPARTMENT OF THE TREASURY

Agency Information Collection Activities; Submission for OMB Review; Comment Request; Multiple Treasury Departmental Offices Information Collection Requests

AGENCY: Departmental Offices, U.S. Department of the Treasury.

ACTION: Notice, request for comment.

SUMMARY: The Department of the Treasury will submit the following information collection requests to the Office of Management and Budget (OMB) for review and clearance in accordance with the Paperwork Reduction Act of 1995, on or after the date of publication of this notice. The public is invited to submit comments on these requests.

DATES: Comments must be received on or before May 31, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Departmental Offices (DO)

1. Title: Reporting of International Capital and Foreign Currency Transactions and Positions.

OMB Control Number: 1505-0149.

Type of Review: Extension of a currently approved collection.

Description: 31 CFR part 128 establishes general guidelines for reporting on United States claims on and liabilities to foreigners; on transactions in securities with foreigners; and on the monetary reserves of the United States as provided for by the International Investment and Trade in Services Survey Act and the Bretton Woods Agreements Act. In addition, 31 CFR part 128 establishes general guidelines for reporting on the nature and source of foreign currency transactions of large U.S. business enterprises and their foreign affiliates. This regulation includes a recordkeeping requirement, § 128.5, which is necessary to enable the Office of International Affairs to verify reported information and to secure additional information concerning reported information as may be necessary. The recordkeepers are U.S. persons required to file reports covered by these regulations.

Form Number: None. The forms prescribed by the Secretary and covered by this regulation, § 128.1(c), are Treasury International Capital (TIC) Forms BC, BL-1, BL-2, BQ-1, BQ-2, BQ-3 (1505-0016), CQ-1, CQ-2 (1505-0024), D (1505-0199), S (1505-0001), SLT (1505-0235) and Treasury Foreign Currency Forms FC-1, FC-2, and FC-3 (1505-0010).

Affected Public: Businesses and other for-profits.

Estimated Number of Respondents: 2,063.

Estimated Total Number of Annual Responses: 20,980.

Estimated Time per Response: 20 minutes.

Estimated Total Annual Burden Hours: 6,993 hours.

2. Title: Prohibition on Funding of Unlawful Internet Gambling.

OMB Control Number: 1505-0204.

Type of Review: Extension without change of a current OMB approval.

Description: The Unlawful Internet Gambling Enforcement Act requires the Treasury and the Federal Reserve Board (the “Agencies”) to prescribe regulations requiring designated payment systems and all participants to identify and block unlawful internet gambling transactions through the establishment of reasonably designated policies and procedures. The Agencies have published a regulation that requires designated payment systems and all participants to establish and implement written policies and procedures. The share of the burden attributable the Treasury is listed below, while the share attributable to the Federal Reserve Board is accounted for under OMB Control No. 7100-0317.

Form Number: None.

Affected Public: Businesses or other for-profits; and not-for-profit organizations.

Estimated Number of Respondents: 6,038.

Frequency of Response: Annually.

Estimated Total Number of Annual Responses: 6,038.

Estimated Time per Response: 8.05 hours.

Estimated Total Annual Burden Hours: 48,604 hours.

Authority: 44 U.S.C. 3501 et seq.

Molly Stasko,
Treasury PRA Clearance Officer.

[FR Doc. 2022-09093 Filed 4-27-22; 8:45 am]

BILLING CODE 4810-AK-P